DEPARTMENT OF TRANSPORTATION

Federal Highway Administration

[Docket No. FHWA-2024-0020]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by May 21, 2024.

ADDRESSES: You may submit comments identified by DOT Docket ID Number 0020 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Aimee Zhang, (202) 366-6537, Office of Safety Technologies, Federal Highway Administration, Department of Transportation, 1200 New Jersey Avenue SE, Washington, DC 20590. Office hours are from 7:30 a.m. to 4 p.m., Monday through Friday, except Federal holidays.

SUPPLEMENTARY INFORMATION:

Title: Request for Federal Aid Reimbursement Eligibility of Safety Hardware Devices.

Background: The FHWA' s longstanding policy is that all roadside safety hardware installed on the National Highway System (NHS) be crashworthy. To support this policy, the AASHTO/FHWA Joint Implementation Agreement for the Manual for Assessing Safety Hardware (MASH) was adopted. This agreement implemented AASHTO MASH as the criteria for determining crashworthiness of roadside safety hardware.

FHWA provides a service to States and industry by reviewing tests for roadside hardware, ensuring that they have been tested in accordance with MASH criterion, and issuing a federal aid eligibility letter for roadside hardware that meet review standards. An eligibility letter is not a requirement for roadside safety hardware to be determined eligible for Federal funding. Roadside safety hardware is eligible for Federal funding if it has been determined to be crash worthy by the user agency.

To issue eligibility letters for roadside safety hardware, the FHWA needs to collect and review crash test results and hardware information from the submitters.

Respondents: Approximately 60 submissions are received annually.

Frequency: 60 submissions annually.

Estimated Average Burden per Response: Averagely 16 hours per submission.

Estimated Total Annual Burden Hours: Approximately 960 hours annually.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: March 18, 2024.
Jazmyne Lewis,
Information Collection Officer.

[FR Doc. 2024-06027 Filed 3-21-24; 8:45 am]

BILLING CODE 4910-22-P